DEPARTMENT OF DEFENSE

Department of the Army; Corps of Engineers

Intent To Prepare a Draft Environmental Impact Statement (DEIS) for the Installation of a Terminal Groin Structure at the Western End of South Beach, Bald Head Island, in Close Proximity to the Federal Wilmington Harbor Channel of the Cape Fear River (Brunswick County, NC)

AGENCY: Department of the Army, U.S. Army Corps of Engineers, DoD.

ACTION: Notice of intent.

SUMMARY: The U.S. Army Corps of Engineers (USACE), Wilmington District, Wilmington Regulatory Field Office has received a request for Department of the Army authorization, pursuant to Section 404 of the Clean Water Act and Section 10 of the Rivers and Harbor Act, from the Village of Bald Head Island (VBHI) to develop and implement a shoreline protection plan that includes the installation of a terminal groin structure on the east side of the Wilmington Harbor Baldhead Shoal Entrance Channel (a federally-maintained navigation channel of the Cape Fear River) at the “Point” of Bald Head Island. The structure will be designed to be strategically incorporated into the federal beach disposal operations associated with the Wilmington Harbor Sand Management Plan.

DATES: A public scoping meeting for the DEIS will be held at the ILA Hall, located at 211 West 10th Street in Southport (NC) on March 22, 2012 at 6 p.m. Written comments will be received until April 9, 2012.

ADDRESSES: Copies of comments and questions regarding scoping of the DEIS may be submitted to: U.S. Army Corps of Engineers, Wilmington District, Regulatory Division. ATTN: File Number SAW-2012-00040, 69 Darlington Avenue, Wilmington, NC 28403.

FOR FURTHER INFORMATION CONTACT: Questions about the proposed action and DEIS can be directed to Mr. David Timpy, Project Manager, Wilmington Regulatory Field Office, telephone: (910) 251-4634. Additional description of the VBHI's proposal can be found at the following link, http://www.saw.usace.army.mil/WETLANDS/Projects/index.html, under the Village of Bald Head Island Terminal Groin Project.

SUPPLEMENTARY INFORMATION:

1. Project Description

The west end of South Beach has experienced both chronic mid-term (decadal) and accelerated short-term erosion losses (with direct impacts to beaches and dunes of this segment of shoreline). A nourishment project has been employed by the VBHI to mitigate the effects of these losses. In addition, several million cubic yards of sand from a Federal navigation project has been disposed on the beach since 1991. Despite this sand placement on the beach, a portion of South Beach continues to experience substantial erosion, potentially impacting public infrastructure and homes. It is the VBHI's desire to implement a long-term beach and dune stabilization strategy. The applicant contends that a necessary component to the success of this strategy is the installation of a terminal groin that would (1) reduce inlet-directed sand losses from beach fill construction projects; and (2) stabilize shoreline alignment along the westernmost segment of South Beach in such a manner that alongshore transport rates are reduced. The VBHI proposal calls for the construction of a single terminal groin designed to compliment future placement of beach fill at South Beach. The structure will serve as a “template” for fill material placed eastward of the proposed terminal groin. In that regard, the groin will be designed as a “leaky” structure (i.e. semi-permeable) so as to provide for some level of sand transport to West Beach (located northward of the proposed groin).

2. Issues

There are several potential environmental and public interest issues that will be addressed in the DEIS. Additional issues may be identified during the scoping process. Issues initially identified as potentially significant include:

a. Potential impacts to marine biological resources (benthic organisms, passageway for fish and other marine life) and Essential Fish Habitat.

b. Potential impacts to threatened and endangered marine mammals, birds, fish, and plants.

c. Potential impacts to adjacent shoreline changes on West Beach of Bald Head Island and adjacent shorelines.

d. Potential impacts to Navigation, commercial and recreational.

e. Potential impacts to the long-term management of the oceanfront shorelines.

f. Potential effects on regional sand sources and how it relates to sand management practices and North Carolina's Beach Inlet Management Practices.

g. Potential effects of shoreline protection.

h. Potential impacts on public health and safety.

i. Potential impacts to recreational and commercial fishing.

j. Potential impacts to cultural resources.

k. Cumulative impacts of past, present, and foreseeable future dredging and nourishment activities.

3. Alternatives

Several alternatives are being considered for the development of the protection plan. These alternatives will be further formulated and developed during the scoping process and an appropriate range of alternatives, including the no federal action alternative, will be considered in the DEIS.

4. Scoping Process

A public scoping meeting (see DATES) will be held to receive public comment and assess public concerns regarding the appropriate scope and preparation of the DEIS. Participation in the public meeting by federal, state, and local agencies and other interested organizations and persons is encouraged.

The USACE will consult with the U.S. Fish and Wildlife Service under the Endangered Species Act and the Fish and Wildlife Coordination Act; with the National Marine Fisheries Service under the Magnuson-Stevens Fishery Conservation and Management Act and the Endangered Species Act; and with the North Carolina State Historic Preservation Office under the National Historic Preservation Act. Additionally, the USACE will coordinate the DEIS with the North Carolina Division of Water Quality (NCDWQ) to assess the potential water quality impacts pursuant to Section 401 of the Clean Water Act, and with the North Carolina Division of Coastal Management (NCDCM) to determine the projects consistency with the Coastal Zone Management Act. The USACE will closely work with NCDCM and NCDWQ in the development of the DEIS to ensure the process complies with current State Environmental Policy Act (SEPA) requirements. It is the intention of both the USACE and the State of North Carolina to consolidate the NEPA and SEPA processes thereby eliminating duplication.

6. Availability of the DEIS

The DEIS is expected to be published and circulated by the end of 2012. A public hearing will be held after the publication of the DEIS.

Dated: March 2, 2012.
Scott McLendon,
Assistant Chief, Regulatory Division.

[FR Doc. 2012-6127 Filed 3-13-12; 8:45 am]

BILLING CODE 3720-58-P